DEPARTMENT OF HEALTH AND HUMAN SERVICES

Centers for Disease Control and Prevention

Board of Scientific Counselors, National Center for Injury Prevention and Control, (BSC, NCIPC)

In accordance with Section 10(a)(2) of the Federal Advisory Committee Act (Pub. L. 92-463), the Centers for Disease Control and Prevention (CDC) announces, the following meeting of the aforementioned committee:

Time and Date: 9:00 a.m.-3:00 p.m., EST, January 28, 2016 (OPEN).

Public Comment Time and Date: 1:00 p.m.-2:30 p.m.*, EST, January 28, 2016.

* Please note that the public comment period ends at the time indicated above or following the last call for comments, whichever is earlier. Members of the public who want to submit comments must pre-register by January 18, 2016 to opioidsguidelines@cdc.gov. All requests must contain the name, address, email address, organizational affiliation of the speaker, and the topic being addressed with accompanying written comments. Written comments should be limited to one page single spaced with 1 inch margins.

Members of the public must indicate at pre-registration whether they would like to deliver oral remarks in addition to written comment. Comments may be delivered in person or by phone and will be assigned on a first come-first served basis until all time slots are filled. Speakers providing public comment must call in or be present at the beginning of the public comment period. All public comments will be limited to two minutes per speaker. Since the number of time slots is limited, it is requested that each organization register one speaker to represent their organization. Both oral and written comments will be included in the official record of the meeting.

Place: Centers for Disease Control and Prevention, Building 21, Auditorium B-3, 1600 Clifton Road NE., Atlanta, GA 30329.

Audio Conference toll-free dial-in Number: 1-888-469-1243, Participant Code: 4709506, TTY accessible link: http://www.captionedtext.com/client/event.aspx?CustomerID=1891&EventID=2812716.

CDC encourages participation by persons with disabilities. Captions and participation by persons with communications challenges will be available online via Relay Conference Captioning. To view the online captions at the start time of the event, please login for captioning at http://www.captionedtext.com/client/event.aspx?CustomerID=1891&EventID=2812716.

Requests for accommodations, questions, or comments on accessibility (Section 508) compliance may be directed to Tonia Lindley, imx9@cdc.gov.

Status: The meeting as designated above will be open to the public limited only by the space available. The meeting room will accommodate up to 200 people. See instructions above regarding pre-registration and delivering public comment.

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury.

The Board of Scientific Counselors makes recommendations regarding policies, strategies, objectives, and priorities; and reviews progress toward injury prevention goals and provides evidence in injury prevention-related research and programs. The Board also provides advice on the appropriate balance of intramural and extramural research, the structure, progress and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters for Discussion: The Board of Scientific Counselors will discuss the draft recommendations in the CDC Guideline for Prescribing Opioids for Chronic Pain (Guideline), as well as observations formulated in the Opioid Guideline Workgroup Report. There will be 90 minutes allotted for public comments at the end of the session. See above instructions on pre-registration for public comment. A transcript of the meeting and public comments received at the meeting will be posted to the docket at www.regulations.gov (Docket No. CDC-2015-0112).

Agenda items are subject to change as priorities dictate.

Contact Person for More Information: Arlene Greenspan, Dr.P.H., M.P.H., P.T. Associate Director for Science, NCIPC, CDC, 4770 Buford Highway NE., Mailstop F-63, Atlanta, GA 30341, Telephone (770) 488-4696; Email opioidsguidelines@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2016-00265 Filed 1-8-16; 8:45 am]

BILLING CODE 4163-18-P